DEPARTMENT OF THE INTERIOR

National Park Service

[NPS-WASO-NAGPRA-NPS0040264; PPWOCRADN0-PCU00RP14.R50000]

Notice of Intended Repatriation: The Field Museum, Chicago, IL

AGENCY: National Park Service, Interior.

ACTION: Notice.

SUMMARY: In accordance with the Native American Graves Protection and Repatriation Act (NAGPRA), the Field Museum intends to repatriate certain cultural items that meet the definition of unassociated funerary objects and that have a cultural affiliation with the Indian Tribes or Native Hawaiian organizations in this notice.

DATES: Repatriation of the cultural items in this notice may occur on or after July 7, 2025.

ADDRESSES: Send additional, written requests for repatriation of the cultural items in this notice to Helen Robbins, The Field Museum, 1400 S Lake Shore Drive, Chicago, IL 60605, email hrobbins@fieldmuseum.org.

SUPPLEMENTARY INFORMATION: This notice is published as part of the National Park Service's administrative responsibilities under NAGPRA. The determinations in this notice are the sole responsibility of the Field Museum, and additional information on the determinations in this notice, including the results of consultation, can be found in the summary or related records. The National Park Service is not responsible for the determinations in this notice.

Abstract of Information Available

A total of 42 cultural items from Coconino and Navajo Counties, Arizona have been requested for repatriation. These 42 unassociated funerary objects that are from five different accessions approved for repatriation consist of ceramics, beads, awls, miniatures, and a mortar. Between 1893 and 1901, twenty objects consisting of ceramics and a bead were removed by Mennonite missionary Heinrich Voth from several sites on the Hopi Reservation. George Dorsey removed one mortar from the Hopi site of Awatovi in 1899. Three objects consisting of two awls and a string of shell and stone beads were excavated by Jesse A. Burt in 1899-1900 from Homolovi I and II. During two separate excavations, Charles Owen removed eighteen objects from several sites on the Hopi reservation in 1901. Based on consultation, academic research, and Museum records, Homolovi I and II are affiliated with the Hopi Tribe of Arizona and the Zuni Tribe of the Zuni Reservation, New Mexico. There is no known presence of any potentially hazardous substances used to treat any of the cultural items.

Determinations

The Field Museum has determined that:

• The 42 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Hopi Tribe of Arizona and the Zuni Tribe of the Zuni Reservation, New Mexico.

Requests for Repatriation

Additional, written requests for repatriation of the cultural items in this notice must be sent to the authorized representative identified in this ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 7, 2025. If competing requests for repatriation are received, the Field Museum must determine the most appropriate requestor prior to repatriation. Requests for joint repatriation of the cultural items are considered a single request and not competing requests. The Field Museum is responsible for sending a copy of this notice to the Indian Tribes and Native Hawaiian organizations identified in this notice and to any other consulting parties.

Authority: Native American Graves Protection and Repatriation Act, 25 U.S.C. 3004 and the implementing regulations, 43 CFR 10.9.

Dated: May 21, 2025.
Melanie O'Brien,
Manager, National NAGPRA Program.

[FR Doc. 2025-10134 Filed 6-3-25; 8:45 am]

BILLING CODE 4312-52-P